DEPARTMENT OF THE INTERIOR

National Park Service

[NPS-WASO-NAGPRA-22506; PPWOCRADN0-PCU00RP14.R50000]

Notice of Inventory Completion: Office of the State Archaeologist, University of Iowa, Iowa City, IA

AGENCY: National Park Service, Interior.

ACTION: Notice.

SUMMARY: The University of Iowa Office of the State Archaeologist Bioarchaeology Program has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the University of Iowa Office of the State Archaeologist Bioarchaeology Program. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the University of Iowa Office of the State Archaeologist Bioarchaeology Program, at the address in this notice by January 17, 2017.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains under the control of the University of Iowa Office of the State Archaeologist Bioarchaeology Program, Iowa City, IA. The human remains were removed from Woodbury County, IA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Iowa Office of the State Archaeologist Bioarchaeology Program professional staff in consultation with representatives of the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation; Lower Sioux Indian Community in the State of Minnesota; Oglala Sioux Tribe; Rosebud Sioux Tribe of the Rosebud Indian Reservation; Santee Sioux Nation, Nebraska; Sisseton-Wahpeton Oyate of the Lake Traverse Reservation, South Dakota; Spirit Lake Tribe; Standing Rock Sioux Tribe; Upper Sioux Community, Minnesota; and the Yankton Sioux Tribe.

History and Description of the Remains

In 1988, human remains representing, at minimum, one individual were removed from the site of the War Eagle Monument (13WD69) in Woodbury County, IA, prior to the monument's relocation. In 1988, erosion caused human remains to be exposed along the upper edge of the bluff. These remains were recovered by personnel from the Office of the State Archaeologist (OSA) and were transferred to the OSA Bioarchaeology Program. An adult of indeterminate age, possibly female, is represented by the lower limb bones (Burial Projects 266 and 648). No known individuals were identified. No associated funerary objects are present.

The number of burials in the vicinity of the War Eagle Monument is unknown. According to various accounts, War Eagle, a Sioux chief, and at least two of his daughters were buried on the bluff. Additionally, some of War Eagle's grandchildren and at least four Euro-American settlers are believed to have been buried in the area. While identification of the individual cannot be determined, based on archival information, the remains represent a Sioux individual.

Determinations Made by the University of Iowa Office of the State Archaeologist Bioarchaeology Program

Officials of the University of Iowa Office of the State Archaeologist Bioarchaeology Program have determined that:

• Pursuant to 25 U.S.C. 3001(9), the human remains described in this notice represent the physical remains of one individual of Native American ancestry.

• Pursuant to 25 U.S.C. 3001(2), there is a relationship of shared group identity that can be reasonably traced between the Native American human remains and the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation; Lower Sioux Indian Community in the State of Minnesota; Oglala Sioux Tribe; Rosebud Sioux Tribe of the Rosebud Indian Reservation; Santee Sioux Nation, Nebraska; Sisseton-Wahpeton Oyate of the Lake Traverse Reservation, South Dakota; Spirit Lake Tribe; Standing Rock Sioux Tribe; Upper Sioux Community, Minnesota; and the Yankton Sioux Tribe.

Additional Requestors and Disposition

Lineal descendants or representatives of any Indian tribe or Native Hawaiian organization not identified in this notice that wish to request transfer of control of these human remains should submit a written request with information in support of the request to Dr. Lara Noldner, Office of the State Archaeologist Bioarchaeology Program, University of Iowa, 700 S Clinton Street, Iowa City, IA 52242, telephone (319) 384-0740, email lara-noldner@uiowa.edu, by January 17, 2017. After that date, if no additional requestors have come forward, transfer of control of the human remains to the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation; Lower Sioux Indian Community in the State of Minnesota; Oglala Sioux Tribe; Rosebud Sioux Tribe of the Rosebud Indian Reservation; Santee Sioux Nation, Nebraska; Sisseton-Wahpeton Oyate of the Lake Traverse Reservation, South Dakota; Spirit Lake Tribe; Standing Rock Sioux Tribe; Upper Sioux Community, Minnesota; and the Yankton Sioux Tribe may proceed.

The University of Iowa Office of the State Archaeologist Bioarchaeology Program is responsible for notifying the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation; Lower Sioux Indian Community in the State of Minnesota; Oglala Sioux Tribe; Rosebud Sioux Tribe of the Rosebud Indian Reservation; Santee Sioux Nation, Nebraska; Sisseton-Wahpeton Oyate of the Lake Traverse Reservation, South Dakota; Spirit Lake Tribe; Standing Rock Sioux Tribe; Upper Sioux Community, Minnesota; and the Yankton Sioux Tribe that this notice has been published.

Dated: December 1, 2016.
Melanie O'Brien,
Manager, National NAGPRA Program.

[FR Doc. 2016-30339 Filed 12-15-16; 8:45 am]

BILLING CODE 4312-52-P